DEPARTMENT OF ENERGY

Federal Energy Regulatory Commission

[Docket No. RP01-350-000]

Colorado Interstate Gas Company; Notice of Technical Conference

May 4, 2001.

In the Commission's order issued on April 25, 2001,¹ the Commission directed that a technical conference be held to address issues raised by the filing.

¹ Colorado Interstate Gas Co., 95 FERC ¶ 61,099 (2001).

Take notice that the technical conference will be held on Tuesday, May 22, 2001, at 10 a.m., in a room to be designated, at the offices of the Federal Energy Regulatory Commission, 888 First Street, NE., Washington, DC 20426.

All interested parties and Staff are permitted to attend. If a second technical conference meeting is required, that meeting will take place on June 5, 2001, at 10 a.m., at the Commission, and a separate notice of that meeting will be issued.

David P. Boergers,
Secretary.

[FR Doc. 01-11783 Filed 5-9-01; 8:45 am]

BILLING CODE 6717-01-M